DEPARTMENT OF LABOR

Employment and Training Administration

[NAFTA-4353]

Centec Roll Corp., Bethlehem, PA; Notice of Termination of Investigation

Pursuant to Section 221 of the Trade Act of 1974, an investigation was initiated on December 4, 2000, in response to a worker petition which was filed on behalf of workers at Centec Roll Corporation, Bethlehem, Pennsylvania.

The petitioner has requested that the petition be withdrawn. Consequently further investigation in this case would serve no purpose, and the investigation has been terminated.

Signed in Washington, DC this 10th day of January, 2001.
Linda G. Poole,
Certifying Officer, Division of Trade Adjustment Assistance.

[FR Doc. 01-3288 Filed 2-7-01; 8:45 am]

BILLING CODE 4510-30-M